DEPARTMENT OF COMMERCE

National Oceanic and Atmospheric Administration

RIN 0648-XE601

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow eight commercial fishing vessels to fish outside of the limited access sea scallop regulations in support of a study on seasonal bycatch distribution and optimal scallop meat yield on Georges Bank.

Regulations under the Magnuson-Stevens Fishery Conservation and Management Act require publication of this notification to provide interested parties the opportunity to comment on applications for proposed Exempted Fishing Permits.

DATES: Comments must be received on or before May 19, 2016.

ADDRESSES: You may submit written comments by any of the following methods:

• Email: nmfs.gar.efp@noaa.gov. Include in the subject line “DA16-024 CFF Georges Bank Optimization Study EFP.”

• Mail: John K. Bullard, Regional Administrator, NMFS, Greater Atlantic Regional Fisheries Office, 55 Great Republic Drive, Gloucester, MA 01930. Mark the outside of the envelope “DA16-024 CFF Georges Bank Optimization Study EFP.”

FOR FURTHER INFORMATION CONTACT: Shannah Jaburek, Fisheries Management Specialist, 978-282-8456.

SUPPLEMENTARY INFORMATION: Coonamesset Farm Foundation (CFF) has submitted a proposal titled “Optimizing the Georges Bank Scallop Fishery by Maximizing Meat Yield and Minimizing Bycatch,” that has been favorably reviewed and is pending final approval by NOAA's Grants Management Division under the 2016 Atlantic Sea Scallop Research Set-Aside (RSA) Program.

CFF submitted a complete application for an exempted fishing permit (EFP) on March 7, 2016. The project would look primarily at seasonal distribution of bycatch on the northern part of Georges Bank in relation to sea scallop meat weight yield while minimizing impacts to other stocks. Additional objectives include continued testing of a modified scallop dredge bag design to reduce flatfish bycatch and collecting biological samples to examine scallop meat quality and yellowtail flounder liver disease. Project investigators working on this project would also work in cooperation with New Hampshire Fish and Game (NHFG) and the Atlantic Offshore Lobstermen's Association (AOLA) to tag lobsters. CFF is requesting exemptions that would exempt eight commercial fishing vessels from the Atlantic sea scallop days-at-sea (DAS) allocations at 50 CFR 648.53(b); crew size restrictions at § 648.51(c); observer program requirements at § 648.11(g); Closed Area II (CAII) scallop gear restrictions specified at 648.81(b); and access area program requirements at § 648.60(a)(4). It would also exempt vessels from possession limits and minimum size requirements specified in 50 CFR part 648, subsections B and D through O, and 50 CFR 697.20 for sampling and tagging purposes only.

Vessels would conduct scallop dredging in a year-round seasonal study on a total of eight 7-day trips, for a total of 56 DAS. Each trip would complete approximately 70 paired tows per trip for an overall total of 520 tows for the project. Closed Area II tows would take place in the central portion situated below the Closed Area II Habitat Closure Area, including the northern portion of Atlantic Sea Scallop Closed Area II Rotational Closed Area. Open area tows would be conducted on the northern half of Georges Bank, west of the boundary of Closed Area II. Although the proposed project included tow locations inside the Closed Area II Habitat Closure Area, we will not be authorizing tows in that area, consistent with previous requests by CFF to conduct dredging in this area. We will not grant access to the Habitat Closure Area for this project until a final outcome from the Omnibus Habitat Amendment II is determined.

There is a potential for gear conflict with lobster gear in the central portion of Closed Area II. In an effort to help mitigate gear interactions, the project coordinator would distribute the time and location of stations to the lobster industry, work only during daylight hours, post an extra lookout to avoid gear, and conduct fishing operations in a way that avoids tangling in stationary gear. We do not expect the DAS, crew size, possession limits, or minimum size exemptions to generate any controversy or concern about the potential catch of egg-bearing female lobsters in this area during the months of June-October. The project would work in cooperation with NHFG and AOLA to tag lobsters with the primary goal of documenting their movement on and off Georges Bank. CFF would like to use data from the tagging project to provide data on the discard mortality of lobsters in the scallop fishery.

All tows would be conducted with two tandem 15-foot (4.6-m) turtle deflector dredges for a duration of 30 minutes using an average tow speed of 4.8 knots. One dredge would be rigged with a 7-row apron and twine top hanging ratio of 2:1, while the other dredge would be rigged with a 5-row apron and 1.5:1 twine top hanging ratio. Both dredge frames would be rigged with identical rock and tickler chain configurations, 10-inch (25.4-cm) twine top, and 4-inch (10.2-cm) ring bag.

For all tows the entire sea scallop catch would be counted into baskets and weighed. One basket from each dredge would be randomly selected and the scallops would be measured in 5-milimeter increments to determine size selectivity. All finfish catch would be sorted by species and then counted and measured. Weight, sex, and reproductive state would be determined for a random subsample (n = 10) of yellowtail, winter, and windowpane flounders. Lobsters would be measured, sexed, and evaluated for damage and shell disease. With the exception of samples retained for further processing, no catch would be retained for longer than needed to conduct sampling and no catch would be landed for sale. All catch estimates for the project are listed in the table below.

Project Catch Estimates
Species | lb | kg
Scallops | 7,500 | 3,402
Yellowtail Flounder | 1,600 | 726
Winter Flounder | 2,500 | 1,134
Windowpane Flounder | 6,300 | 2,858
Summer Flounder | 2,800 | 1,270
Fourspot Flounder | 400 | 181
American Plaice Flounder | 50 | 23
Witch Flounder | 100 | 45
Haddock | 100 | 45
Atlantic Cod | 100 | 45
Monkfish | 9,600 | 4,354
Spiny Dogfish | 300 | 136
Barndoor Skate | 2,800 | 1,270
Northeast Skate Complex | 140,000 | 63,503
American Lobster | 900* |
* American lobster value is number of individuals.

CFF needs these exemptions to allow them to conduct experimental dredge towing without being charged DAS, as well as deploy gear in areas that are currently closed to scallop fishing. Participating vessels need crew size waivers to accommodate science personnel. Possession waivers would enable researchers to sample finfish and lobster catch that exceeds possession limits or prohibitions. The project would be exempt from the sea scallop observer program requirements because activities conducted on the trip are not consistent with normal fishing operations.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 28, 2016.
Emily H. Menashes,
Acting Director, Office of Sustainable Fisheries, National Marine Fisheries Service.

[FR Doc. 2016-10449 Filed 5-3-16; 8:45 am]

BILLING CODE 3510-22-P